FEDERAL DEPOSIT INSURANCE CORPORATION

Notice of Open Meeting of the FDIC Systemic Resolution Advisory Committee

AGENCY: Federal Deposit Insurance Corporation.

SUMMARY: In accordance with the Federal Advisory Committee Act, notice is hereby given of a meeting of the FDIC Systemic Resolution Advisory Committee. The Advisory Committee will provide advice and recommendations on a broad range of policy issues regarding the resolution of systemically important financial companies. The meeting is open to the public. The public's means to observe this meeting of the FDIC Systemic Resolution Advisory Committee will be both in-person and via a Webcast live on the internet. In addition, the meeting will be recorded and subsequently made available on-demand approximately two weeks after the event. To view the live event, visit http://fdic.windrosemedia.com.

DATES: Tuesday, October 15, 2024, from 9:00 a.m. to 4:00 p.m.

ADDRESSES: The meeting will be held in the FDIC Cafeteria on the seventh floor of the FDIC Building located at 550 17th Street NW, Washington, DC.

FOR FURTHER INFORMATION CONTACT: Requests for further information concerning the meeting may be directed to Ms. Debra A. Decker, Committee Management Officer of the FDIC, at (202) 898-8748.

SUPPLEMENTARY INFORMATION:

Agenda: The agenda will include a discussion of a range of issues and developments related to the resolution of systemically important financial companies. The agenda may be subject to change. Any changes to the agenda will be announced at the beginning of the meeting.

Type of Meeting: The meeting will be open to the public, limited only by the space available on a first-come, first-served basis. For security reasons, members of the public will be subject to security screening procedures and must present a valid photo identification to enter the building. Observers requiring auxiliary aids (e.g., sign language interpretation) for this meeting should email DisabilityProgram@fdic.gov to make necessary arrangements. This meeting of the FDIC Systemic Resolution Advisory Committee will also be Webcast live via the internet http://fdic.windrosemedia.com. For optimal viewing, a high-speed internet connection is recommended. To view the recording, visit http://fdic.windrosemedia.com/index.php?category=Systemic+Resolution+Advisory+Committee. Written statements may be filed with the Advisory Committee before or after the meeting.

Federal Deposit Insurance Corporation.
Dated at Washington, DC, on September 23, 2024.
James Sheesley,
Assistant Executive Secretary.

[FR Doc. 2024-22085 Filed 9-25-24; 8:45 am]

BILLING CODE 6714-01-P